DEPARTMENT OF TRANSPORTATION

Federal Aviation Administration

14 CFR Part 39

[Docket No. FAA-2009-0005; Directorate Identifier 2008-NM-164-AD; Amendment 39-15927; AD 2009-12-04]

RIN 2120-AA64

Airworthiness Directives; Construcciones Aeronauticas, S.A. (CASA), Model C-212-CB, C-212-CC, C-212-CD, C-212-CE, C-212-CF, and C-212-DE Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Incidents have been reported on Britten-Norman BN-2 aircraft, where cracks were found in the inner shell of the pitot/static pressure heads. The investigation concluded that these pitot tubes, supplied by Thales Optronics, could be operated outside their voltage specification. On December 15th, 2005, CAA [Civil Aviation Authority] United Kingdom issued AD G-2005-0034 (EASA approval number 2005-6447), later superseded by EASA AD 2006-0143, to require inspections and leak tests on Britten-Norman aircraft. Subsequently, it has been discovered that the same tubes are supplied to EADS-CASA for installation on C-212 aircraft, one for the pilot side and one for the co-pilot side. So far, EADS-CASA has not received any report of cracked pitot tubes from C-212 operators.

This condition, if not corrected, could result in incorrect readings on the pressure instrumentation, e.g., altimeters, vertical speed indicators (rate of climb) and airspeed indicators, potentially leading to navigational errors.

* * * * *

The unsafe condition could reduce the ability of the flightcrew to maintain the safe flight and landing of the airplane. We are issuing this AD to require actions to correct the unsafe condition on these products.

DATES: This AD becomes effective July 16, 2009.

The Director of the Federal Register approved the incorporation by reference of certain publications listed in this AD as of July 16, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on February 23, 2009 (74 FR 8043). That NPRM proposed to correct an unsafe condition for the specified products. The MCAI states:

Incidents have been reported on Britten-Norman BN-2 aircraft, where cracks were found in the inner shell of the pitot/static pressure heads. The investigation concluded that these pitot tubes, supplied by Thales Optronics, could be operated outside their voltage specification. On December 15th, 2005, CAA [Civil Aviation Authority] United Kingdom issued AD G-2005-0034 (EASA approval number 2005-6447), later superseded by EASA AD 2006-0143, to require inspections and leak tests on Britten-Norman aircraft. Subsequently, it has been discovered that the same tubes are supplied to EADS-CASA for installation on C-212 aircraft, one for the pilot side and one for the co-pilot side. So far, EADS-CASA has not received any report of cracked pitot tubes from C-212 operators.

This condition, if not corrected, could result in incorrect readings on the pressure instrumentation, e.g., altimeters, vertical speed indicators (rate of climb) and airspeed indicators, potentially leading to navigational errors.

For the reasons described above, this EASA AD requires the inspection of the affected pitot tubes, and, if cracks are found, replacement of those tubes with the new P/N [part number] 212-A0150-0001 and 212-A0150-0002 pitot tubes.

The unsafe condition could reduce the ability of the flightcrew to maintain the safe flight and landing of the airplane. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 32 products of U.S. registry. We also estimate that it will take about 1 work-hour per product to comply with the basic requirements of this AD. The average labor rate is $80 per work-hour. Based on these figures, we estimate the cost of this AD to the U.S. operators to be $2,560, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-12-04 Construcciones Aeronauticas, S.A. (CASA): Amendment 39-15927. Docket No. FAA-2009-0005; Directorate Identifier 2008-NM-164-AD.

Effective Date

(a) This airworthiness directive (AD) becomes effective July 16, 2009.

Affected ADs

(b) None.

Applicability

(c) This AD applies to CASA Model C-212-CB, C-212-CC, C-212-CD, C-212-CE, C-212-CF, and C-212-DE airplanes, all serial numbers; certificated in any category; on which pitot tubes having part number 212-61105.1 or 212-61105.2 are installed.

Subject

(d) Air Transport Association (ATA) of America Code 34: Navigation.

Reason

(e) The mandatory continuing airworthiness information (MCAI) states:

“Incidents have been reported on Britten-Norman BN-2 aircraft, where cracks were found in the inner shell of the pitot/static pressure heads. The investigation concluded that these pitot tubes, supplied by Thales Optronics, could be operated outside their voltage specification. On December 15th, 2005, CAA [Civil Aviation Authority] United Kingdom issued AD G-2005-0034 (EASA approval number 2005-6447), later superseded by EASA AD 2006-0143, to require inspections and leak tests on Britten-Norman aircraft. Subsequently, it has been discovered that the same tubes are supplied to EADS-CASA for installation on C-212 aircraft, one for the pilot side and one for the co-pilot side. So far, EADS-CASA has not received any report of cracked pitot tubes from C-212 operators.

“This condition, if not corrected, could result in incorrect readings on the pressure instrumentation, e.g., altimeters, vertical speed indicators (rate of climb) and airspeed indicators, potentially leading to navigational errors.

“For the reasons described above, this EASA AD requires the inspection of the affected pitot tubes, and, if cracks are found, replacement of those tubes with the new P/N [part number] 212-A0150-0001 and 212-A0150-0002 pitot tubes.

The unsafe condition could reduce the ability of the flightcrew to maintain the safe flight and landing of the airplane.

Actions and Compliance

(f) Unless already done, do the following actions.

(1) Within 1 month or 300 flight hours after the effective date of this AD, whichever occurs first: Perform a detailed inspection of the affected pitot tubes and static inlets for radial cracking around the top lip of the dynamic port, in accordance with the instructions of Chapter 5 of the CASA C-212 Series 100/200 Maintenance Manual, Revision 2, dated June 11, 2002. Repeat the inspection thereafter at intervals not to exceed 300 flight hours.

(2) If any crack is found during any inspection required by paragraph (f)(1) of this AD, before further flight, replace the pitot tube with a new pitot tube having P/N 212-A0150-0001 or 212-A0150-0002 in accordance with the instructions of CASA Service Bulletin SB-212-34-11, Revision 1, dated February 27, 2008. Replacement of both pitot tubes having part number 212-61105.1 and 212-61105.2 with new tubes terminates the repetitive inspections required by paragraph (f)(1) of this AD.

FAA AD Differences

Note: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to Attn: Shahram Daneshmandi, Aerospace Engineer, International Branch, ANM-116, Transport Airplane Directorate, FAA, 1601 Lind Avenue, SW., Renton, Washington 98057-3356; telephone (425) 227-1112; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0155, dated August 11, 2008; Chapter 5 of the CASA C-212 Series 100/200 Maintenance Manual, Revision 2, dated June 11, 2002; and CASA Service Bulletin SB-212-34-11, Revision 1, dated February 27, 2008; for related information.

Material Incorporated by Reference

(i) You must use Chapter 5 of the CASA C-212 Series 100/200 Maintenance Manual, Revision 2, dated June 11, 2002; and CASA Service Bulletin SB-212-34-11, Revision 1, dated February 27, 2008; as applicable; to do the actions required by this AD, unless the AD specifies otherwise. The CASA C-212 Series 100/200 Maintenance Manual, Revision 2, dated June 11, 2002, contains the following effective pages:

List of Effective Pages
Page title/description | Page number(s) | Revision number | Date shown on page(s)
Title Page | None shown | 2 | June 11, 2002.
Record of Revisions | None shown | 2 | June 11, 2002.
Chapter 5: List of Effectivity Pages | 1 | None shown* | June 11, 2002.
Chapter 5: Table of Contents | 1-4 | None shown* | May 25, 1988.
Section 5-00-00 | 1-6 | None shown* | May 25, 1988.
Section 5-10-00 | 1-4 | None shown* | May 25, 1988.
| 5-7, 9, 10 | None shown* | June 11, 2002.
| 8, 11-15 | None shown* | July 22, 1993.
Section 5-20-00 | 1-4 | None shown* | May 25, 1988.
| 5-13, 16, 19-31, 34-45, 47-62, 64, 66-90 | None shown* | July 22, 1993.
| 14, 15, 17, 18, 32, 33, 46, 63, 65 | None shown* | June 11, 2002.
Section 5-50-10 | 1-10 | None shown* | May 25, 1988.
Section 5-50-20 | 1, 2 | None shown* | May 25, 1988.
(*Only the title page and Record of Revisions for the CASA C-212-100/200 Maintenance Manual specify the revision level of the document.)

(1) The Director of the Federal Register approved the incorporation by reference of this service information under 5 U.S.C. 552(a) and 1 CFR part 51.

(2) For service information identified in this AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on June 1, 2009.
Stephen P. Boyd,
Acting Manager, Transport Airplane Directorate, Aircraft Certification Service.

[FR Doc. E9-13138 Filed 6-10-09; 8:45 am]

BILLING CODE 4910-13-P